DEPARTMENT OF COMMERCE

International Trade Administration

[A-507-502]

Certain In-Shell Pistachios from Iran; Final Results of the Expedited Sunset Review of the Antidumping Duty Order

AGENCY: Import Administration, International Trade Administration, Department of Commerce.

SUMMARY: On March 1, 2005, the Department of Commerce (the Department) initiated a sunset review of the antidumping duty order on certain in-shell raw pistachios from Iran, pursuant to section 751(c) of the Tariff Act of 1930, as amended (the Act). On the basis of a notice of intent to participate and an adequate substantive response filed on behalf of domestic interested parties and an inadequate response from respondent interested parties, the Department conducted an expedited (120-day) sunset review. As a result of this sunset review, the Department finds that revocation of the antidumping duty order would likely lead to the continuation or recurrence of dumping. The dumping margins are identified in the Final Results of Review section of this notice.

EFFECTIVE DATE: October 4, 2005.

FOR FURTHER INFORMATION Dana Mermelstein, AD/CVD Operations, Office 6, or John Drury, AD/CVD Operations, Office 7, Import Administration, International Trade Administration, U.S. Department of Commerce, 14th Street and Constitution Avenue, NW, Washington, DC 20230, telephone: (202) 482-1391 or (202) 482-0195, respectively.

SUPPLEMENTARY INFORMATION:

Background

On March 1, 2005, the Department initiated a sunset review of the antidumping duty order on in-shell pistachios from Iran pursuant to section 751(c) of the Act. See Initiation of Five-year (“Sunset”) Reviews, 70 FR 9919 (March 1, 2005). The Department received notices of intent to participate from two domestic interested parties, Cal-Pure Pistachios, Inc. (Cal-Pure) and the California Pistachio Commission (CPC) together with the Western Pistachio Association (WPA) (collectively, domestic interested parties), within the deadline specified in 19 CFR 351.218(d)(1)(i). Domestic interested parties claimed interested party status under sections 771(9)(C), (E) and (F) of the Act as U.S. producers of the domestic like product, trade or business associations, a majority of whose members produce the domestic like product, and associations, a majority of whose members is composed of interested parties. We received complete substantive responses from one domestic interested party, CPC/WPA, within the 30-day deadline specified in 19 CFR 351.218(d)(3)(I). The Department also received a response from Rafsanjan Pistachio Producers Cooperative (RPPC), a respondent interested party. However, the Department determined that the response from RPPC was inadequate. The Department notified the International Trade Commission (ITC) in writing of its finding of inadequate response and intention to conduct an expedited sunset review. See Letter from Kelly Parkhill, Director, Industry Support & Analysis, Office of Policy, Import Administration, to Robert Carpenter, Director, Office of Investigations, International Trade Commission, dated April 20, 2005. As a result, pursuant to section 751(c)(3)(B) of the Act and 19 CFR 351.218(e)(1)(ii)(C)(2), the Department conducted an expedited sunset review of this order.

Scope of the Order

The product covered by the antidumping duty order is raw, in-shell pistachio nuts from which the hulls have been removed, leaving the inner hard shells, and edible meats from Iran. This merchandise is currently provided for in subheading 0802.50.20.00 of the Harmonized Tariff Schedule of the United States (HTSUS). Although the HTSUS subheading is provided for convenience and customs purposes, the Department's written description of the merchandise under order is dispositive.

Analysis of Comments Received

All issues raised in this sunset review are addressed in the “Issues and Decision Memorandum” from Barbara E. Tillman, Acting Deputy Assistant Secretary for Import Administration, to Holly A. Kuga, Acting Assistant Secretary for Import Administration, dated September 27, 2005, (“Decision Memorandum”), which is hereby adopted by this notice. The issues discussed in the Decision Memorandum include the likelihood of continuation or recurrence of dumping and the magnitude of the margin likely to prevail if the order were revoked. Parties can find a complete discussion of all issues raised in this sunset review and the corresponding recommendations in this public memorandum, which is on file in room B-099 of the main Department building.

In addition, a complete version of the Decision Memorandum can be accessed directly on the Web at http://ia.ita.doc.gov/frn/index.html. The paper copy and electronic version of the Decision Memorandum are identical in content.

Final Results of Review

We determine that revocation of the antidumping duty order on in-shell pistachios from Iran would likely lead to continuation or recurrence of dumping at the following percentage weighted-average margins:

Manufacturers/Exporters/Producers | Weighted-Average Margin (Percent)
RPPC | 241.14
Nima/Maghsoudi | 241.14
Nima/Razi | 241.14
All Other Iranian Growers/Producers and Exporters | 241.14

This notice also serves as the only reminder to parties subject to administrative protective orders (APO) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: September 27, 2005.
Holly A. Kuga,
Acting Assistant Secretary for Import Administration.

[FR Doc. 05-19883 Filed 10-3-05; 8:45 am]

BILLING CODE 3510-DS-S